DEPARTMENT OF COMMERCE

Foreign-Trade Zones Board

[B-68-2015]

Foreign-Trade Zone (FTZ) 102—St. Louis, Missouri; Notification of Proposed Production Activity; H-J Enterprises, Inc./H-J International, Inc. (Electrical Transformer Bushing Assemblies); High Ridge, Missouri

The St. Louis County Port Authority, grantee of FTZ 102, submitted a notification of proposed production activity to the FTZ Board on behalf of H-J Enterprises, Inc./H-J International, Inc. (H-J), located at two sites in High Ridge, Missouri. The notification conforming to the requirements of the regulations of the FTZ Board (15 CFR 400.22) was received on October 20, 2015.

A separate application for subzone designation at the H-J facilities is planned and will be processed under Section 400.31 of the FTZ Board's regulations. The facilities are used for the production of electrical transformer bushing assemblies for utility companies. Pursuant to 15 CFR 400.14(b), FTZ activity would be limited to the specific foreign-status materials and components and specific finished products described in the submitted notification (as described below) and subsequently authorized by the FTZ Board.

Production under FTZ procedures could exempt H-J from customs duty payments on the foreign-status components used in export production. On its domestic sales, H-J would be able to choose the duty rates during customs entry procedures that apply to porcelain and epoxy electrical transformer bushing assemblies (duty rates 2.7% and 3%, respectively) for the foreign-status inputs noted below. Customs duties also could possibly be deferred or reduced on foreign-status production equipment.

The components and materials sourced from abroad include: Rubber bushing plugs; iron/steel bolts, screws, studs and washers; steel ground pads; copper tubes, studs and terminals; brass washers, bolts, screws, nuts, studs and terminals; aluminum/steel bushing inserts and caps; aluminum clamps and plugs; steel hinges, steel/brass fittings and connectors; copper/brass/steel drain valves; steel/brass inserts and bushing caps; bayonet fuses; porcelain/epoxy bushing assemblies; fuse end bells; electrical leads; porcelain insulators; and level gauges (duty rates range from 1.8% to 8.5%).

Public comment is invited from interested parties. Submissions shall be addressed to the FTZ Board's Executive Secretary at the address below. The closing period for their receipt is December 8, 2015.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Diane Finver at Diane.Finver@trade.gov or (202) 482-1367.

Dated: October 22, 2015.
Andrew McGilvray,
Executive Secretary.

[FR Doc. 2015-27620 Filed 10-28-15; 8:45 am]

BILLING CODE 3510-DS-P